DEPARTMENT OF HEALTH AND HUMAN SERVICES

Indian Health Service

Privacy Act of 1974; Report of an Altered System of Records; Medical Staff Credentials and Privileges Records

ACTION: Notice; correction.

SUMMARY: The Indian Health Service published a document in the Federal Register (FR) on September 9, 2009. The document contained three errors.

FOR FURTHER INFORMATION CONTACT: Ms. Betty Gould, Regulations Officer, 801 Thompson Avenue, TMP, Suite 450, Rockville, MD 20852, Telephone (301) 443-7899. (This is not a toll-free number.)

Correction

In the Federal Register of September 9, 2009 in FR Doc. E9-21422, on page 46437, in the third column, tenth line, change IRS to IHS; on page 46438, in the first column, second line, change HH to HHS; and on page 46439, in the first column, 25th line Records Source Categories, change IRS to IHS.

Dated: September 29, 2009.
Yvette Roubideaux,
Director, Indian Health Service.

[FR Doc. E9-23837 Filed 10-1-09; 8:45 am]

BILLING CODE 4165-16-P